DEPARTMENT OF TRANSPORTATION

Federal Highway Administration

Environmental Impact Statement: Rutland County, Vermont

AGENCY: Federal Highway Administration (FHWA), DOT.

ACTION: Notice of Intent.

SUMMARY: The FHWA is issuing this notice to advise the public that an environmental impact statement will be prepared for the proposed relocation of the Rutland rail switching yard and related improvements.

FOR FURTHER INFORMATION CONTACT: Rob Sikora, Environmental Program Manager, Federal Highway Administration, P.O. Box 568, Montpelier, Vermont 05601. Telephone: 802-828-4433.

SUPPLEMENTARY INFORMATION: The FHWA, in cooperation with the Vermont Agency of Transportation (VTrans) and the Rutland Redevelopment Authority (RRA), will prepared an Environmental Impact Statement (EIS) for the proposed relocation of the Rutland rail switching yard and related improvements in Rutland, Vermont. Relocation of the existing rail yard is considered necessary due to changes to both the City of Rutland and the railroad. The existing rail yard site is in downtown Rutland. Industry in Rutland has changed and the rail yard results in frequent noise, traffic delay and congestion, safety hazards to pedestrians and vehicles, and occupies land that could be redeveloped.

Other improvements related to the proposed rail yard relocation are the construction of a new access road from Route 4 to downtown Rutland paralleling the rail line corridor, a connector track at Howe Center between the Green Mountain Railroad Corporation (GMRC) and the switching yard and a connector track in Center Rutland, Town of Rutland, between the Clarendon and Pittsford Railroad (CLP) and Vermont Railway (VTR).

Alternatives under consideration include (1) taking no action; (2) improvement to the existing rail yard; and (3) alternative relocation sites with associated connector tracks and downtown access roads.

Letters describing the proposed action and soliciting comments will be sent to appropriate Federal, State and local agencies, and to private organizations and citizens who have previously expressed or are known to have interest in this proposal. A series of public meetings will be held in Rutland. In addition, a public hearing will be held. Public notice will be given of the time and place of the meetings and hearing. The draft EIS will be available for public and agency review and comment prior to the public hearing. No formal scoping meeting is planned at this time.

To ensure that a full range of issues related to this proposed action are addressed and all significant issues identified, comments and suggestions are invited from all interested parties. Comments or questions concerning this proposed action and the EIS should be directed to FHWA at the address provided above.

(Catalog of Federal Domestic Assistance Program Number 20.205, Highway Planning and Construction. The regulations implementing Executive Order 12372 regarding intergovernmental consultation on Federal programs and activities apply to this program.)

Issued on: November 20, 2002.
Kenneth R. Sikora, Jr.,
Environmental Program Manager, Montpelier, Vermont.

[FR Doc. 02-30201 Filed 11-27-02; 8:45 am]

BILLING CODE 4910-22-M